NUCLEAR REGULATORY COMMISSION

[Docket Nos. 50-458; NRC-2017-0141]

Entergy Operations, Inc.; River Bend Station, Unit 1

AGENCY: U.S. Nuclear Regulatory Commission

ACTION: License renewal and record of decision; issuance.

SUMMARY: The U.S. Nuclear Regulatory Commission (NRC) has issued Renewed Facility Operating License No. NPF-47 to Entergy Operations, Inc. (Entergy or licensee), for River Bend Station, Unit 1 (RBS). Renewed Facility Operating License No. NPF-47 authorizes Entergy to operate RBS at reactor core power levels not in excess of 3,091 megawatts thermal and in accordance with the provisions of the RBS renewed license and technical specifications. In addition, the NRC has prepared a record of decision (ROD) that supports the NRC's decision to issue Renewed Facility Operating License No. NPF-47.

DATES: The NRC issued Renewed Facility Operating License No. NPF-47 on December 20, 2018.

ADDRESSES: Please refer to Docket ID NRC-2017-0141 when contacting the NRC about the availability of information regarding this document. You may obtain publicly available information related to this document using any of the following methods:

• Federal Rulemaking website: Go to http://www.regulations.gov and search for Docket ID NRC-2017-0141. Address questions about docket IDs in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “Begin Web-based ADAMS Search.” For problems with ADAMS, please contact the NRC's Public Document Room (PDR) reference staff by telephone at 1-800-397-4209 or 301-415-4737, or by email to pdr.resource@nrc.gov. For the convenience of the reader, instructions about obtaining materials referenced in this document are provided in the “Availability of Documents” section.

• NRC's Public Document Room: You may examine and purchase copies of public documents at the NRC's Public Document Room, Room O1-F21, One White Flint North, 11555 Rockville Pike, Rockville, MD 20852.

FOR FURTHER INFORMATION CONTACT: Emmanuel Sayoc, Office of Nuclear Reactor Regulation, U.S. Nuclear Regulatory Commission, Washington, DC 20555-0001; telephone: 301-415-4084; email: Emmanuel.Sayoc@nrc.gov.

SUPPLEMENTARY INFORMATION:

I. Introduction

The NRC hereby gives notice that it has issued Renewed Facility Operating License No. NPF-47 to Entergy Operations, Inc. (Entergy or licensee), the operator of River Bend Station, Unit 1 (RBS). Renewed Facility Operating License No. NPF-47 authorizes Entergy to operate RBS at reactor core power levels not in excess of 3,091 megawatts thermal and in accordance with the provisions of the RBS renewed license and technical specifications. The NRC's record of decision (ROD) supports the NRC's decision to issue Renewed Facility Operating License No. NPF-47 and is available in the NRC's Agencywide Documents Access and Management System (ADAMS) under Accession No. ML18284A374.

The NRC staff documented its environmental review of the RBS license renewal application in the ROD and the final supplemental environmental impact statement (FSEIS) for RBS, which it published November 8, 2018 as Supplement 58 to NUREG-1437, “Generic Environmental Impact Statement for License Renewal of Nuclear Plants Regarding River Bend Station, Unit 1, Final Report” dated November 8, 2018” (ADAMS Accession No. ML18310A072). As part of its environmental review, the NRC considered a range of reasonable alternatives to RBS license renewal. These alternatives included generating replacement energy from a new nuclear reactor, from supercritical pulverized coal (SCPC) power, from natural gas combined-cycle (NGCC) power, or from a combination alternative (natural gas combined-cycle, biomass, and demand-side management). The NRC also considered the no-action alternative (simply not issuing the renewed license for RBS). Ultimately, the NRC determined that the adverse environmental impacts of license renewal for RBS are not so great that preserving the option of license renewal for energy planning decisionmakers would be unreasonable.

RBS is a boiling-water reactor located approximately 38.6 km (24 miles) northwest of Baton Rouge, LA. Entergy's application for RBS license renewal, dated May 25, 2017 (ADAMS Package Accession No. ML17153A282), as supplemented by letters dated through October 9, 2018, complies with the standards and requirements of the Atomic Energy Act of 1954, as amended (the Act), and the NRC's regulations. As required by the Act and the NRC's regulations in Chapter 1, “Nuclear Regulatory Commission,” of Title 10 of the Code of Federal Regulations (10 CFR), “Energy,” the NRC has made appropriate findings, which are set forth in the license. The NRC published a public notice in the Federal Register on May 31, 2016, announcing its proposed issuance of the renewed license and an opportunity for a hearing (81 FR 34379). No adjudicatory matters are pending before the Commission or the Atomic Safety and Licensing Board Panel regarding the RBS license renewal application.

For more information on the issuance of the renewed license for RBS, see: (1) Entergy's license renewal application for RBS dated May 25, 2017 (ADAMS Package Accession No. ML17153A282), as supplemented by letters through October 9, 2018, (2) the NRC's safety evaluation report, which documents the staff's safety review of the license renewal application (published on August 16, 2018, ADAMS Accession No. ML18212A151, as revised on October 18, 2018 (ADAMS Accession No. ML18291B147)), (3) the NRC's final supplemental environmental impact statement (NUREG-1437, Supplement 58) for RBS, which documents the staff's environmental review of the RBS license renewal (published on November 8, 2018 ADAMS Accession No. ML18310A072), and (4) the NRC's record of decision for this action (ADAMS Accession No. ML18284A374).

II. Conclusion

As discussed in Chapter 5 of the final supplemental environmental impact statement for the RBS license renewal (Supplement 58 to NUREG-1437), the NRC determined that the adverse environmental impacts of license renewal for River Bend Station, Unit 1 are not so great that preserving the option of license renewal for energy-planning decisionmakers would be unreasonable. The NRC based its recommendation on: (1) The analysis and findings in NUREG-1437, “Generic Environmental Impact Statement for License Renewal of Nuclear Plants,” (2) Entergy's license renewal application, including its environmental report and other documents submitted by Entergy, (3) consultation with Federal, State, local, and Tribal agencies, (4) the NRC staff's independent environmental review, and (5) consideration of public comments received during the scoping process and on the draft supplemental environmental impact statement.

Dated at Rockville, MD, this 20th day of December 2018.
For the Nuclear Regulatory Commission.
George A. Wilson, Jr.,
Director, Division of Materials and License Renewal, Office of Nuclear Reactor Regulation.

[FR Doc. 2018-28129 Filed 12-26-18; 8:45 am]

BILLING CODE 7590-01-P